NATIONAL CREDIT UNION ADMINISTRATION

Notice of Meeting

Time and Date: 10 a.m. Thursday, September 27, 2007.

Place: Board Room, 7th Floor, Room 7047, 1775 Duke Street, Alexandria, VA 22314-3428.

Status: Open.

Matters to be Considered: 1. Request from Consolidated Federal Credit Union to Convert to a Community Charter.

2. Request from Connects Federal Credit Union to Convert to a Community Charter.

3. Final Rule: Section 701.3 of NCUA's Rules and Regulations, Member Inspection of Credit Union Books, Records, and Minutes.

Recess: 11 a.m.

Time and Date: 11:15 a.m., Thursday, September 27, 2007.

Place: Board Room, 7th Floor, Room 7047, 1775 Duke Street, Alexandria, VA 22314-3428.

Status: Closed.

Matters to be Considered: 1. Two (2) Merger applications under Parts 704 and 708b of NCUA's Rules and Regulations. Closed pursuant to Exemption (8).

2. Appeal under section 701.14 and Part 747, Subpart J of NCUA's Rules and Regulations. Closed pursuant to Exemption (6).

FOR FURTHER INFORMATION CONTACT: Mary Rupp, Secretary of the Board, Telephone: 703-518-6304.

Mary Rupp,
Secretary of the Board.

[FR Doc. 07-4724 Filed 9-20-07; 3:07 pm]

BILLING CODE 7535-01-M